DEPARTMENT OF HEALTH AND HUMAN SERVICES

National Institutes of Health

Center for Scientific Review; Amended Notice of Meeting

Notice is hereby given of a change in the meeting of the Center for Scientific Review Special Emphasis Panel, May 28, 2010, 12 p.m. to May 28, 2010, 2:30 p.m., National Institutes of Health, 6701 Rockledge Drive, Bethesda, MD 20892 which was published in the Federal Register on April 28, 2010, 75 FR 22412.

The meeting has been changed to an Internet assisted meeting. The meeting time has been changed to 8 a.m. to 7 p.m. The meeting location remains the same. The meeting is closed to the public.

Dated: April 29, 2010.
Jennifer Spaeth,
Director, Office of Federal Advisory Committee Policy.

[FR Doc. 2010-10873 Filed 5-6-10; 8:45 am]

BILLING CODE 4140-01-P